DEPARTMENT OF COMMERCE

Foreign-Trade Zones Board

[B-33-2013]

Foreign-Trade Zone (FTZ) 75-Phoenix, Arizona; Notification of Proposed Production Activity; Orbital Sciences Corporation (Satellites and Spacecraft Launch Vehicles); Gilbert, Arizona

The City of Phoenix, grantee of FTZ 75, submitted a notification of proposed production activity on behalf of Orbital Sciences Corporation (OSC), located in Gilbert, Arizona. The notification conforming to the requirements of the regulations of the FTZ Board (15 CFR 400.22) was received on April 2, 2013.

The OSC facility is located within Site 10 of FTZ 75. The facility is used for the production of satellites and spacecraft launch vehicles. Pursuant to 15 CFR 400.14(b), FTZ activity would be limited to the specific foreign-status materials and components and specific finished products described in the submitted notification (as described below) and subsequently authorized by the FTZ Board.

Production under FTZ procedures could exempt OSC from customs duty payments on the foreign status materials and components used in export production. On its domestic sales, OSC would be able to choose the duty rate during customs entry procedures that applies to satellites and spacecraft launch vehicles (free) for the foreign status inputs noted below. Customs duties also could possibly be deferred or reduced on foreign status production equipment.

The components and materials sourced from abroad include: Pyrotechnic detonators/fuses/bolt cutters; plastic tapes; thermal tubes; polyethylene films (ballotini); insulation (kapton) films; thermal isolator washers; articles of rubber (rings, seals); flight cases; insulation and insulation mats; cable restraints; pipelines; filters; graphite panels; optic solar reflectors; mirrors; fiberglass sheeting and tape; articles of steel (wire, adapters, flanges, hoses, plugs, fittings, couplers, springs, shims, cradles, turnbuckles, bushings); fasteners; articles of copper (wire, shims, nozzles); articles of aluminum (covers, reflectors, shims); hydraulic positioners; flange assemblies; pumps and pumping systems; manifolds; air dryers; fuel scales and systems; instruments; telemetry units; computer processors; automated test systems; storage drives; insulated pipes; metal adapters/gaskets/seals; solar drives; power supplies; batteries; heating elements; radio reception/transmission devices; avionics; power blocks; inverters; converters; telemetry components; antennae; receivers; electrical components; printed-circuit boards/panels; test/measurement equipment; radiation detectors; solar arrays; transformers; magnetometers; attenuators; wiring/cable harnesses; fiber optic cables; optical and electrical sensors; power meters; gauges; interferometers; shock recorders; expulsion panels; and monitoring systems (duty rate ranges from free to 20%). Inputs included in certain textile categories (classified within HTSUS Subheadings 5601.21, 5607.50) will be admitted to the zone under privileged foreign status (19 CFR 146.41) or domestic (duty paid) status (19 CFR 146.43), thereby precluding inverted tariff benefits on such items.

Public comment is invited from interested parties. Submissions shall be addressed to the FTZ Board's Executive Secretary at the address below. The closing period for their receipt is June 3, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: April 17, 2013.
Andrew McGilvray,
Executive Secretary.

[FR Doc. 2013-09698 Filed 4-23-13; 8:45 am]

BILLING CODE P